ENVIRONMENTAL PROTECTION AGENCY

[OPPTS-00320; FRL-6796-8]

Baseline Assessment of Existing Exposure and Risks of Exposure to Lead Poisoning of Native American Children; Notice of Funds Availability

AGENCY: Environmental Protection Agency (EPA).

ACTION: Notice.

SUMMARY: EPA is soliciting applications from Indian Tribes for grants to support an Indian Tribe's baseline assessment of existing exposure and risks of exposure to lead poisoning of Tribal children. EPA is awarding grants which will provide approximately $1.5 million to Indian Tribes to support these activities. This Notice describes eligibility, activities, application procedures and requirements, and evaluation criteria.

DATES: All grant applications must be received on or before October 9, 2001.

ADDRESSES: Applications may be submitted by mail. Please follow the detailed instructions as provided in Unit I. of the SUPPLEMENTARY INFORMATION.

FOR FURTHER INFORMATION CONTACT: For general information contact: Barbara Cunningham, Acting Director, Environmental Assistance Division (7401), Office of Pollution Prevention and Toxics, Environmental Protection Agency, 1200 Pennsylvania Ave., NW., Washington, DC 20460; telephone number: (202) 554-1404; e-mail address: TSCA-Hotline@epa.gov.

For technical information contact: Darlene Watford, Program Assessment and Outreach Branch, National Program Chemicals Division (7404), Office of Pollution Prevention and Toxics, Environmental Protection Agency, 1200 Pennsylvania Ave., NW., Washington, DC 20460; telephone number: (202) 260-3989; e-mail address: watford.darlene@epa.gov.

SUPPLEMENTARY INFORMATION:

I. General Information

A. Does this Action Apply to Me?

This action is directed to federally recognized Indian Tribes or Tribal Consortia only. For the purposes of this Notice, a partnership between two or more federally recognized Indian Tribes is considered a consortium. If you have any questions regarding the applicability of this action to a particular entity, consult the technical person listed under FOR FURTHER INFORMATION CONTACT.

B. How Can I Get Additional Information, Including Copies of this Document and Other Related Documents?

You may obtain electronic copies of this document, and certain other related documents that might be available electronically, from the EPA Internet Home Page at http://www.epa.gov/. To access this document on the Home Page select “Laws and Regulations,” “Regulations and Proposed Rules,” and then look up the entry for this document under the “Federal Register—Environmental Documents.” You can also go directly to the Federal Register listings at http://www.epa.gov/fedrgstr/.

You may also access this document at the Office of Pollution Prevention and Toxics Lead Home Page at http://www.epa.govlead. Select “What's New.”

C. How and To Whom Do I Submit an Application?

Submit grant applications through the U.S. mail to: Darlene Watford, Program Assessment and Outreach Branch, National Program Chemicals Division (7404), Office of Pollution Prevention and Toxics (OPPT), Environmental Protection Agency, 1200 Pennsylvania Ave., NW., Washington, DC 20460.

For overnight/express delivery service, send applications to: Darlene Watford, Program Assessment and Outreach Branch, National Program Chemicals Division (7404), Office of Pollution Prevention and Toxics (OPPT), Environmental Protection Agency, 401 M St., SW., Room 817 East Tower, Washington, DC 20460.

D. What Should I Consider as I Prepare My Application?

1. Scope and purpose. The purpose of these grants is to support the efforts of Indian Tribes to identify children's risks to lead by conducting a baseline assessment of potential lead exposures. As a result of this assessment, Indian Tribes may use the resulting data to evaluate whether there is a need to develop and implement an authorized Tribal lead program (40 CFR 745.324).

2. Eligibility. Eligible recipients are any federally recognized Indian Tribes or Tribal Consortiums only. Federally recognized Indian Tribes are listed in the Federal Register notice of March 13, 2000 (65 FR 13298-13303). Only one application may be submitted by each Indian Tribe or Tribal Consortia under this Notice. There are no requirements for matching funding under this grant program. There is no requirement that a Indian Tribe provide documentation that it meets the Treatment as a State (TAS) standard.

3. Activities to be funded. EPA will provide financial assistance in the form of grants to Indian Tribes or Tribal Consortia to conduct any or all of the following activities:

i. Conduct inspections and risk assessments of Tribal housing and/or child occupied facilities for lead-based paint hazards in pre-1978 Tribal homes. This includes testing and analysis of paint, dust, and soil samples for hazardous lead levels. Inspections and risk assessments may only be conducted by individuals certified and trained by a training program that has been accredited by EPA or an EPA authorized State or Indian Tribe pursuant to 40 CFR 745.225 and 745.324 to provide training for individuals engaged in lead-based paint activities. Analysis of paint, dust, and soil samples must be conducted by a National Lead Laboratory Accreditation Program (NLLAP) recognized laboratory. EPA has established the NLLAP to recognize laboratories that demonstrate the ability to analyze paint chip, dust, or soil samples for lead. NLLAP provides the public with a list of laboratories that have met EPA requirements and demonstrated the capability to accurately analyze paint chip, dust, or soil samples for lead. A current list of NLLAP-recognized laboratories can be obtained by calling the National Lead Information Center at 1-800-424-LEAD.

ii. Conduct blood-lead screening of Tribal children under 6 years of age. For blood-lead screening activities, the focus should be on Tribal children between the ages of 12-36 months because blood-lead levels tend to be highest in this age group, and more children in this age group tend to have blood-lead levels ≥10 μg/dL (micrograms per deciliter). The Center for Disease Control and Prevention's (CDC) recommended level of concern that encourages follow-up activities is 10 μg/dL, with specific actions/interventions recommended at various elevated blood-lead levels. Applicants who collect and analyze blood-lead samples from Tribal children must have the samples analyzed using a Clinical Laboratory Improvement Amendments (CLIA)-certified laboratory. Portable, hand-held blood-lead analyzer may be used but must be operated by a laboratory that is CLIA-certified for moderately complex analysis. CLIA, published in 1992 (42 CFR part 405), is administered by the Centers for Medicare and Medicaid Services (formerly the Health Care Finance Administration). CLIA-certified laboratories must successfully participate in a testing proficiency program that is CLIA-approved. Information regarding CLIA may be downloaded from the Centers for Medicare and Medicaid Services web site at http://www.hcfa.gov/medicaid/clia/cliahome.htm.

iii. Train workers to perform lead inspections and risk assessments. Grant funds may be used for initial, refresher, and apprenticeship training and third party testing for individuals to perform lead inspections and risk assessments. The training must be conducted by a training program that has been accredited by EPA or an EPA authorized State or Indian Tribe pursuant to 40 CFR 745.225 and 745.324 to provide training for individuals engaged in lead-based paint activities.

iv. Compile and summarize demographic data collected from activities listed in Unit I.D.3.i.-iii. In order for Indian Tribes to qualify for other Federal funds for lead activities, sufficient data needs to compiled and well organized. It is strongly recommended that Indian Tribes develop or use an existing data management system (manual or automated) to collect and maintain the data collected during the project, including laboratory results and data on follow-up cases for Tribal children with elevated blood-lead levels. This information may be essential in determining if Indian Tribes have the capacity for a Tribal lead program (40 CFR 745.324) and are eligible for other Federal funding for lead activities. (An existing Tribal tracking system, Tribal Relational Environmental Numeric Health Database System or TRENHDS, may be viewed or downloaded from http://www.bluejaydata.com/trenhds.) It is recommended that the data include: Tribe name and location; an identifier that protects the privacy of the child; age of housing in which the child resides; age of the child (in months); gender; sample media (blood, soil, dust, or paint); date of sample collection; method of sample collection (for blood indicate whether capillary or venous); laboratory analysis method and date; the levels of lead in blood (in μg/dL), soil (in microgram per gram (μg/g)), dust (in microgram per square foot (μg/ft²)), and paint (in μg/g or microgram per centimeter square (μg/cm²)); the number of homes where risk assessments or inspections were conducted; the number of paint, dust, and soil samples collected; and possible exposure routes from other sources (such as paint, hobby materials, pottery, parent occupational exposure, special native foods, medications, etc.) for each Tribal child screened.

4. Project duration. Projects are expected to be completed within 2 years of award of the grant.

5. Ineligible costs. Examples of ineligible costs under this grant, include the following:

i. Buying real property, such as land or buildings;

ii. Lead hazard reduction activities, such as performing interim controls or abatement (as defined in 40 CFR 745.223) of homes or apartments or child-occupied facilities;

iii. Construction activities, such as renovation, remodeling, or building a structure;

iv. Office equipment that costs more than 10% of the amount of the grant, such as a copying machine or a color printer;

v. Analysis equipment in excess of 10% of the amount of the grant;

vi. Case-management costs (e.g., follow-up visits by a doctor or chelation therapy), including treatment for Tribal children with blood-lead levels ≥10 μg/dL. However, EPA is extremely interested in knowing what actions the applicant plans to follow regarding monitoring, education, and/or treatment for children whose blood-lead levels are determined to be elevated (≥10 μg/dL) while screening under this grant. It is important to treat the children who are found to have blood-lead levels ≥10 μg/dL. A description of specific steps and related information for follow-up activities must be included in the work plan section of the application; and

vii. Contractor support in excess of 25% of the amount of the grant award.

6. Application requirements. Applicants must submit one original and three double-sided copies of the application (include a return mailing address in the application). Applications must be unbound, stapled or clipped in the upper left-hand corner, on white paper, and with page numbers. The deadline for EPA's receipt of applications is October 9, 2001. Applicants must identify in the application, any funds from other sources (private or public) used to carry-out the grant projects proposed in response to this Notice. If the applicant has conducted, or is currently working on a related project(s), a brief description of those projects, funding sources, primary commitments, and an indication as to whether those commitments were met must be provided in the application. The description should also indicate how the proposed project is different from other funded work conducted by the Indian Tribe(s) or unfunded work conducted by another entity (e.g., Indian Health Service, EPA Superfund Office, etc.), and how the proposed project will not duplicate previous or on-going projects. It is important to note that Indian Tribes will not be awarded funds to conduct the same activities under the grant program described in this Notice and the EPA lead-based paint grant program (TSCA section 404(g)) which is described in a separate notice published elsewhere in this Federal Register issue. This Notice is one of three EPA notices that announce the availability of funds to conduct various lead-based paint activities. The specific details regarding the other notices are described in separate Federal Register notices entitled:

•Lead Awareness (Educational) Outreach for Native American Tribes and

•Solicitation of Applications for Lead-Based Paint Program Grants.

Although Indian Tribes may apply to receive grant funding from all three notices, they each have very distinct objectives. The grant program opportunities described in this Notice and the companion notice (“Lead Awareness (Educational) Outreach for Native American Tribes”), may serve as a precursor to, but not as an equivalent or supplement to, the TSCA section 404(g) lead-based paint grant program as described in the “Solicitation of Applications for Lead-Based Paint Program Grants.” The TSCA section 404(g) lead-based paint grant program for which funding is also provided, involves infrastructure development for the anticipated implementation of a lead program and does not include the activities (testing for lead in blood, paint, dust, or soil samples, or the general outreach and education activities) listed in this Notice. Indian Tribes may determine from the sample results and data interpretation that they obtain from the grant program described in this Notice, that they have a need to develop a lead-based paint grant program and may apply for TSCA section 404(g) grant funds. Indian Tribes with an EPA approved lead-based paint program may become eligible for other Federal funding opportunities (such as Housing and Urban Development (HUD) and CDC grant programs) for lead activities.

To be considered for funding, applicants must include completed grant forms, certifications, and a work plan.

i. Grant forms and certifications. The following forms and certifications, which are contained in EPA's “Application Kit for Assistance,” must be included in the application:

a. Standard Form 424 (Application for Federal Assistance);

b. Standard Form 424A (Budget Information-Non-Construction Programs);

c. Standard Form 424B (Assurances-Non-Construction Programs);

d. Standard Form LLL (Disclosure of Lobbying Activities );

e. Certification Regarding Debarment and Suspension;

f. EPA Form 4700-4 (Compliance Review Report Form); and

g. Quality Assurance Statement.

Application Kits for Assistance include items a-g of this unit and are available from any of EPA's 10 Regional Offices listed in this unit or may be accessed at http://www.epa.gov/region4/grants/grants.htm.

Region I: (Connecticut, Massachusetts, Maine, New Hampshire, Rhode Island, and Vermont), Regional Contact—James Bryson, U.S. Environmental Protection Agency (USEPA) Region I, One Congress St., Suite 1100 (CPT), Boston, MA 02114-0203; telephone number: (617) 918-1524; e-mail address: bryson.james@epa.gov.

Region II: (New York, New Jersey, Puerto Rico, and the Virgin Islands), Regional Contact—Lou Bevilacqua, USEPA Region II, MS-225, 2890 Woodbridge Ave., Edison, NJ 08837; telephone number: (732) 321-6671; e-mail address: bevilacqua.lou@epa.gov.

Region III: (Delaware, Maryland, Pennsylvania, Virginia, West Virginia, and the District of Columbia), Regional Contact—Roberta Riccio, USEPA Region III (3WC33), 1650 Arch St., Philadelphia, PA 19103-2029; telephone number: (215) 814-3107; e-mail address: riccio.roberta@epa.gov.

Region IV: (Alabama, Florida, Georgia, Kentucky, Mississippi, North Carolina, South Carolina, and Tennessee), Regional Contact—Rose Anne Rudd, USEPA Region IV, 61 Forsyth St., SW., Atlanta, GA 30303; telephone number: (404) 562-8998; e-mail address: rudd.roseanne@epa.gov.

Region V: (Illinois, Indiana, Michigan, Minnesota, Ohio, and Wisconsin), Regional Contact—David Turpin, USEPA Region V (DT-8J), 77 W. Jackson Blvd., Chicago, IL 60604; telephone number: (312) 886-7836; e-mail address: turpin.david@epa.gov.

Region VI: (Arkansas, Louisiana, New Mexico, Oklahoma, and Texas), Regional Contact—Jeffrey Robinson, USEPA Region VI, 1445 Ross Ave., 12th Floor, Dallas, TX 75202; telephone number: (214) 665-7577; e-mail address: robinson.jeffrey@epa.gov.

Region VII: (Iowa, Kansas, Missouri, and Nebraska), Regional Contact—Mazzie Talley, USEPA Region VII, ARTD/RALI, 901 North 5th, Kansas City, KS 66101; telephone number: (913) 551-7518; e-mail address: talley.mazzie@epa.gov.

Region VIII: (Colorado, Montana, North Dakota, South Dakota, Utah, and Wyoming), Regional Contact—David Combs, USEPA Region VIII, 999-18th St., Suite 300, Denver, CO 80202; telephone number: (303) 312-6021; e-mail address: combs.dave@epa.gov.

Region IX: (Arizona, California, Hawaii, Nevada, American Samoa, and Guam), Regional Contact—Patricia Norton, USEPA Region IX (CMD-4-2), 75 Hawthorne St., San Francisco, CA 94105; telephone number: (415) 744-1069; e-mail address: norton.patricia@epa.gov.

Region X: (Alaska, Idaho, Oregon, and Washington), Regional Contact—Barbara Ross, USEPA Region X, Solid Waste and Toxics Unit (WCM-128), 1200 Sixth Ave., Seattle, WA 98101; telephone number: (206) 553-1985; e-mail address: ross.barbara@epa.gov.

ii. Work plan. The work plan must describe the proposed project. The work plan must be 4-6-typed pages in length (excluding Appendix). One page is one side of a single-spaced typed page. The pages must be letter size (10 or 12 characters per inch (cpi)) and must have margins that are at least 1 inch. The format for the work plan must be organized as outlined as follows:

a. Introduction. Title of Project, Table of Contents, and Summary.

b. Baseline assessment activities. Include the purpose, goal, and approach of the project. This section should also include a discussion of the separate phases of the project; the criteria for selecting properties to be inspected and/or to have risk assessments performed and children screened; methods to be used for data collection and quality control; and training of individuals to perform lead-based paint evaluation activities.

c. Project management. Include a description of staff positions, roles, and responsibilities; a description of experience in or potential to conduct activities described in Unit I.D.6.ii.b.; efforts of partnership and collaboration with other local health agencies; extent of contractor support; schedule for initiation and completion of major activities; and a budget summary.

d. Appendix. The appendix must be no more than 10 pages total and follow the same paging and spacing description as provided in this outline.

i. Resumes of key personnel. Include title, description, and reference name with phone number for work on previous or current grants or contracts with the Federal Government within the last 5 years.

ii. Letters of support from Tribal representatives (for consortium of Indian Tribes). Include a letter or resolution from Tribal Council or Chairperson showing support for and commitment to the project. (If it is not possible to obtain a letter/resolution from the Tribal Council or Chairperson to submit with your application, an interim letter of explanation must be included with the application. The letter/resolution will still be required prior to award of the grant.

iii. Related projects. Include detailed information on other lead-based paint or lead related activities (if applicable).

7. Funding. Applicants may receive grants of up to $75,000. Grant applications for amounts greater than $75,000 may be issued in cases where the size of the Tribal population served is greater than average or where the Indian Tribe is represented by a Tribal Consortium. Final distribution of the funds will be dependent upon the number of qualified applicants, Tribal populations served by each grant, and other factors, as deemed appropriate by EPA (i.e., the evaluation criteria as stated in Unit I.D.9.). Indian Tribes may use a portion of the grant funds for contractor support for these activities (i.e., training providers, consultants, etc.); however, contractor support may not account for more than 25% of the amount of the grant.).

8. Post-award requirements. EPA has quality assurance requirements that must be addressed for sampling under this grant. These requirements are addressed in a Quality Assurance Project Plan (QAPjP) which the grantee must submit to EPA after the grant is awarded. The QAPjP must be approved by EPA before any samples are collected. Once approved, the grantee must follow the plan.

QAPjP requirements are stated in the document “EPA Requirements for Quality Assurance Plans” (EPA QA/R5). Guidance for the development of QAPjPs can be found in the EPA document “Guidance for Quality Assurance Project Plans” (EPA QA/G5). Copies of the quality assurance documents discussed in this unit and other related documents may be down loaded from the EPA Quality Assurance Division web site at http://es.epa.gov/ncerqa/qa/index.html.

To simplify the approval process, a QAPjP template has been developed by EPA specifically for Indian Tribes wishing to respond to this Notice. Applicants may insert information in the template where indicated by italicized print. Applicants may obtain a copy of this specially designed template for this project entitled, QAPjP Template for Lead Baseline Assessment of Indian Tribes, from the general information contact listed under FOR FURTHER INFORMATION CONTACT, or may download it from the EPA/OPPT web site at http://www.epa.gov/lead. The template follows the EPA QAPP requirements as stated in the document “EPA Requirements for Quality Assurance Plans” (EPA QA/R5).

The grantee must provide EPA with progess reports at the end of each quarter.

9. Evaluation criteria. EPA will review all applications for quality, strength, and completeness against the following criteria. The Agency will use the applications to select projects to be funded under this grant program. The maximum rating score of an application is 100 points.

i. General (20 points). The applicant's overall description of implementing the Tribal Lead Baseline Assessment program must address the goals of this Notice of funding availability (NOFA) as detailed in Unit I.D.1. It must include reasonable and attainable goals and an approach that is clearly detailed. The applicant must describe how the effectiveness of the project will be determined. The applicant must provide detailed information on all lead-based paint or lead-related activities for which the Indian Tribe has received funding from any Federal, State, or local government.

ii. Baseline Assessment activities (40 points). The applicant's description of plans to inspect Tribal housing and/or child occupied facilities for lead-based paint hazards; perform blood-lead screening to collect blood-lead level data of Tribal children; perform testing of paint, dust, and soil for hazardous lead levels; train individuals to perform lead inspections and risk assessments; and fund contractor support for these grant activities will be evaluated. The following elements will be specifically evaluated:

a. Evaluation of Tribal housing. Description of residential/child occupied properties to be evaluated by lead-based paint inspection and/or risk assessment; identification and selection criteria of evaluation sites; description of methods used to reach Tribal population regarding lead paint inspections and/or risk assessment efforts; description of inspection, sampling, and analysis procedures; qualifications of inspection personnel; description of reporting and risk assessment procedures.

b. Blood-lead screening activities. Description of the sampling, collection, handling, and analysis activities; data collection and tracking system, including quality control measures; description of the facility/facilities where the blood-lead sampling will occur (i.e., public school, public library, health department facility, clinic, private building, mobile van, etc.); estimated number and a percentage estimate of the number of Tribal children to be screened in the project. Description of the method that will be used to solicit maximum participation of Tribal children; methods (i.e., printing, video taping, collaboration with radio, or television, etc.) to be used to reach the Indian population regarding the blood-lead screening effort; efforts to be used to ensure patient confidentiality; and a description of how the CLIA standards will be met.

c. Testing of paint, dust, and soil. Description of the sampling, collection, handling, and analysis activities; description of the data that will be collected, tracked, and reported to EPA; quality control measures implemented, and a description of how NLLAP-recognized laboratories will be used for analysis.

d. Training. Use of EPA, State, or Tribal approved training curriculum for risk assessments and inspections and use of certified inspectors and/or risk assessors trained in lead-based paint evaluation activities.

iii. Project management (30 points). The applicant should describe the staff positions, roles and responsibilities, and their qualifications. The following elements will also be evaluated: Resumes of key personnel; applicant's experience in or potential to conduct activities such as those described in the “Testing of paint, dust, and soil” section in Unit I.D.9.i.c.; previous experience managing similar projects and availability of references; access to properly trained staff and facilities to conduct the project; schedule for completing the project; and the extent of activities to be performed by a contractor.

iv. Budget (10 points). The evaluation will be based on the extent to which the budget (as provided by applicant on SF424A in the application) is reasonable, clear, and consistent with the intended use of the funds. (A brief summary of the budget may be provided in the work plan.) Although matching funds are not required, bonus points will be given to applications indicating financial contributions and/or in-kind services provided to the project.

II. What Action is the Agency Taking?

EPA is soliciting applications from Indian Tribes for grants to support a Indian Tribe's baseline assessment of existing exposure and risks of exposure to lead poisoning of Tribal children. Such assessments may include: Inspecting pre-1978 Tribal housing and/or child occupied facilities for lead-based paint hazards; blood-lead screening to collect blood-lead level data of Tribal children; testing of paint, dust, and soil for hazardous lead levels; training individuals to perform lead inspections and risk assessments; and funding any contractor support necessary for these activities. EPA is awarding grants which will provide approximately $1.5 million for Indian Tribes to perform these activities. Decisions on awarding the grant funds will be made based on the evaluation of the applications.

III. Statutory Authority and Regulation

Section 10 of TSCA, as supplemented by Public Law 106-74, authorizes EPA to award grants for the purpose of conducting research, development, monitoring, education, training, demonstrations, and studies necessary to carry out the purposes of the Act.

IV. Submission to Congress and the Comptroller General

Grant solicitations such as this are considered rules for the purpose of the Congressional Review Act (CRA). The CRA, 5 U.S.C. 801 et seq., as added by the Small Business Regulatory Enforcement Fairness Act of 1996 (SBREFA), generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This is not a “major rule” as defined by 5 U.S.C. 804(2).

List of Subjects

Environmental protection, Grants—Indians, Indians, Native Americans, Lead, Blood-lead screening, Lead risk assessments and inspections, Maternal and child health.

Dated: July 31, 2001.
William H. Sanders III,
Director, Office of Pollution Prevention and Toxics.

[FR Doc. 01-20131 Filed 8-9-01; 8:45 am]

BILLING CODE 6560-50-S